DEPARTMENT OF LABOR

Occupational Safety and Health Administration

[Docket No. ICR-1218-0195(2001)]

Asbestos in Shipyards Standard; Extension of the Office of Management and Budget's Approval of Information-Collection (Paperwork) Requirements

AGENCY: Occupational Safety and Health Administration (OSHA), Labor.

ACTION: Notice of an opportunity for public comment.

SUMMARY: OSHA solicits public comment concerning its request for an extension of the information-collection requirements contained in its Asbestos in Shipyard Standard at 29 CFR 1915.1001 (the “Standard”).

REQUEST FOR COMMENT: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before January 2, 2001.

ADDRESSES: Submit written comments to the Docket Office, Docket No. ICR-1218-0195(2001), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Todd R. Owen, Directorate of Policy, OSHA, U.S. Department of Labor, Room N-3641, 200 Constitution Avenue, NW., Washington, DC 20210; telephone: (202) 693-2444. A copy of the Agency's Information-Collection Request (ICR) supporting the need for the information-collection requirements specified by the Standard is available for inspection and copying in the Docket Office, or you may request a mailed copy by telephoning Todd Owen at (202) 693-2444. For electronic copies of this ICR, contact OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information burden is correct. The Occupational Safety and Health Act of 1970 (the “Act”) authorizes information collection by employers as necessary or appropriate for enforcement of the Act or for developing information regarding the causes and prevention of occupational injuries, illnesses, and accidents (29 U.S.C. 657).

The basic purpose of the information-collection requirements in the Standard is to provide employees with information necessary for them to determine that they are receiving the required protection from hazardous asbestos exposure. Asbestos exposure results in asbestosis, an emphysema-like condition; mesothelioma; and gastrointestinal cancer.

Several provisions of the Standard specify paperwork requirements, including: Implementing an exposure-monitoring program that informs employees of their exposure-monitoring results; and, at multi-employer worksites, notification of other onsite employers by employers establishing regulated areas of the type of work performed with asbestos-containing materials (ACMs) and/or presumed asbestos-containing materials (PACMs), the requirements that pertain to regulated areas, and the measures they can use to protect their employees from asbestos overexposure. Other provisions associated with paperwork requirements include: Evaluating and certifying alternative control methods for Class I and Class II asbestos work and, for Class I asbestos work, a requirement to send a copy of the evaluation and certification to the OSHA national office; ¹ informing laundry personnel of the requirement to prevent release of airborne asbestos above the time-weighted average and excursion limit; notification by employers and building/facility owners of designated personnel and employees regarding the presence, location, and quantity of ACMs and/or PACMs; using information, data, and analyses to demonstrate that PACM does not contain asbestos; posting signs in mechanical rooms/areas that employees may enter and that contain ACMs and PACMs, informing them of the identity and location of these materials and work practices that prevent disturbing the materials; posting warning signs demarcating regulated areas; and affixing warning labels to asbestos-containing products and to containers holding such products. Additional provisions of the Standard that contain paperwork requirements include: Developing specific information and training programs for employees; providing medical surveillance for employees potentially exposed to ACMs and/or PACMs, including administering an employee medical questionnaire, providing information to the examining physician, and providing the physician's written opinion to the employee; maintaining records of objective data used for exposure determinations, employee exposure-monitoring and medical-surveillance records, training records, the record (i.e., information, data, and analyses) used to demonstrate that PACM does not contain asbestos, and notifications made and received by building/facility owners regarding the content of ACMs and PACMs; making specified records (e.g., exposure-monitoring and medical-surveillance records) available to designated parties; and transferring exposure-monitoring and medical-surveillance records to the National Institute for Occupational Safety and Health on cessation of business.

¹ Class I asbestos work involves removing: Thermal-system insulation (i.e., ACM applied to pipes, fittings, boilers, breeching, tanks, ducts or other structural components used to prevent heat loss or gain.) and surfacing ACMs and PACMs. Class II asbestos work involves removing ACM that is not thermal-system insulation or surfacing material. Such material includes, but is not limited to, asbestos-containing wallboard, floor tile and sheeting, roofing and siding shingles, and construction mastics.

These paperwork requirements permit employers, employees and their designated representatives, OSHA, and other specified parties to determine the effectiveness of an employer's asbestos-control program. Accordingly, the requirements ensure that employees exposed to asbestos receive all of the protection afforded by the Standard.

II. Proposed Actions

OSHA proposes to extend the Office of Management and Budget's (OMB) approval of the collection-of-information (paperwork) requirements contained in the Standard. The Agency will summarize the comments submitted in response to this notice, and will include this summary in its request to OMB to extend the approval of these information-collection requirements.

Type of Review: Extension of currently approved information-collection requirements.

Title: Asbestos in Shipyards (29 CFR 1915.1001).

OMB Number: 1218-0195.

Affected Public: Business or other for-profit organizations; Federal, State, Local, or Tribal governments.

Number of Respondents: 89.

Frequency: On occasion.

Average Time per Response: Varies from 5 minutes to maintain records to 17.3 hours for training a competent person.

Estimated Total Burden Hours: 1,484.

Estimated Cost (Operation and Maintenance): $36,497.

III. Authority and Signature

Charles N. Jeffress, Assistant Secretary of Labor for Occupational Safety and Health, directed the preparation of this notice. The authority for this notice is the Paperwork Reduction Act of 1995 (44 U.S.C. 3506) and Secretary of Labor's Order No. 3-2000 (65 FR 50017).

Signed at Washington, DC on October 26, 2000.
Charles N. Jeffress,
Assistant Secretary of Labor.

[FR Doc. 00-27922 Filed 10-30-00; 8:45 am]

BILLING CODE 4510-26-P